DEPARTMENT OF ENERGY

Federal Energy Regulatory Commission

[Docket No. RP03-24-000]

Algonquin LNG, Inc.; Notice of Proposed Changes in FERC Gas Tariff

October 18, 2002.

Take notice that on October 15, 2002, Algonquin LNG, Inc. (ALNG) tendered for filing as part of its FERC Gas Tariff, First Revised Volume No. 1 and Original Volume No. 2 the following tariff sheets to become effective on October 15, 2002:

First Revised Volume No. 1

Second Revised Sheet No. 1

First Revised Sheet No. 74C

First Revised Sheet No. 75

Original Volume No. 2

First Revised Sheet No. 1

ALNG proposes to cancel its FERC Gas Tariff Original Volume No. 2 in its entirety and to update its FERC Gas Tariff, Volume No. 1 by making minor non-substantive tariff revisions.

ALNG states that copies of this filing were served on all affected customers of Maritimes and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-27291 Filed 10-24-02; 8:45 am]

BILLING CODE 6717-01-P